DEPARTMENT OF THE INTERIOR

Bureau of Land Management

[AZ-060-1430-ES; AZA 31869]

Notice of Realty Action; Bureau Motion; Recreation and Public Purposes (R&PP) Act Classification; Arizona

AGENCY: Bureau of Land Management, Interior.

ACTION: Notice of Realty Action.

SUMMARY: The following public lands in Saginaw Hill, Pima County, Arizona have been examined and found suitable for classification for lease or conveyance to the Pima County Parks and Recreation Department under the provisions of the Recreation and Public Purposes Act, as amended, 43 U.S.C. 869 et seq., and under sec. 7 of the Taylor Grazing Act, 43 U.S.C. 315f, and E.O. 6910. The Pima County Parks and Recreation Department proposes to use the lands for public trails park.

Gila and Salt River Meridian, Arizona

T. 15 S., R. 12 E.,

Sec. 1, lots 24-31 inclusive;

Sec. 11, N½NE¼, N½SW¼NE¼, SE¼SW¼NE¼, N½SE¼NE¼, SE¼, MS 1448, MS 1449;

Sec. 12, lots 5-12 inclusive, W½NW¼, N½SE¼NW¼, SW¼SE¼NW¼, MS 1448, MS 1449.

The area described aggregates 515.216 acres. This action is a motion by the Bureau of Land Management to make available lands identified and designated as disposal lands under the Safford District Resource Management, Plan, dated August 1991 and amendment dated July 1994, and are not needed for Federal purposes. Lease or conveyance of the lands for recreational or public purpose use is consistent with current BLM land use planning and would be in the public interest.

The lease or conveyance of the lands will be subject to the following terms, conditions, and reservations:

1. A right-of-way thereon for ditches and canals constructed by the authority of the United States. Act of August 30, 1890, 26 Stat. 391 (43 U.S.C. 945).

2. Provisions of the Recreation and Public Purposes Act and to all applicable regulations of the Secretary of the Interior.

3. All minerals shall be reserved to the United States, together with the right to prospect for, mine and remove the minerals.

4. All valid existing rights documented on the official public land records at the time of lease/patent issuance.

5. A right-of-way authorized under the Act of November 9, 1921, 42 Stat. 216 for a road and drainage purposes to the Arizona Department of Transportation, (AZA 006032) affecting public lands within sec. 1, T. 15 S., R. 12 E.

6. A right-of-way authorized under the Act of October 21, 1976, 90 Stat. 2776 (43 U.S.C. 1761) for road purposes to the Pima County Transportation and Flood Control (AZA 018432) affecting public lands within sec. 11, T. 15 S., R. 12 E.

7. A right-of-way authorized under the Act of October 21, 1976, 90 Stat. 2776 (43 U.S.C. 1761) for pipeline and station site purposes to the City of Tucson (AZA 018787) affecting public lands within sec. 11, T. 15 S., R. 12 E.

8. A right-of-way authorized under the Act of October 21, 1976, 90 Stat. 2781 (43 U.S.C. 1767) for the Central Arizona Project purposes to the Bureau of Reclamation (AZA 022075) affecting public lands within sec. 11, T. 15 S., R.12 E.

9. A right-of-way authorized under the Act of October 21, 1976, 90 Stat. 776 (43 U.S.C. 1761) for powerline purposes to Trico Electric Cooperative, Inc., (AZA 022597) affecting public lands within sec. 11, T. 15 S., R. 12 E.

10. A right-of-way authorized under the Act of March 4, 1911, 36 Stat. 1253 (43 U.S.C. 961) for powerline purposes to Trico Electric Cooperative, Inc., (AZAR 003905) affecting public lands within sec. 12, T. 15 S., R. 12 E.

11. A right-of-way authorized under the Act of October 21, 1976, 36 Stat. 1253 (43 U.S.C. 961) for powerline purposes to Trico Electric Cooperative Inc., (AZAR 035316) affecting public lands within sec. 12, T. 15 S., R. 12 E.

12. A right-of-way authorized under the Act of February 25, 1920, 41 Stat. 37; (30 U.S.C. 437) for compressor station purposes to El Paso Natural Gas (AZPHX 083253) affecting public lands within sec. 11, T. 15 S., R. 12 E.

13. A right-of-way authorized under the Act of February 25, 1920, 41 Stat. 437 (30 U.S.C. 185) for gas pipeline purposes to El Paso Natural Gas (AZPHX 086067) affecting public lands within sec. 11, T. 15 S., R. 12 E.

Detailed information concerning this action is available for review at the Bureau of Land Management, Tucson Field Office, 12661 East Broadway, Tucson, Arizona. Upon publication of this notice in the Federal Register, the lands will be segregated from all other forms of appropriation under the public land laws, including the general mining laws, except for lease or conveyance under the Recreation and Public Purposes Act and leasing under the mineral leasing laws. Interested persons may submit comments regarding the proposed classification or lease/conveyance of the lands until November 12, 2002, to the Field Office Manager, Tucson Field Office, 12661 East Broadway, Tucson, Arizona 85748-7208.

Classification Comments: Interested persons may submit comments involving the suitability of the land for a public trails park. Comments on the classification are restricted to whether the land is physically suited for the proposal, whether the use will maximize the future use or uses of the land, whether the use is consistent with local planning and zoning, or if the use is consistent with state and federal programs.

Application Comments: Interested persons may submit comments regarding the specific use proposed in the application and plan of development, whether the BLM followed proper administrative procedures in reaching the decision, or any other factor not directly related to the suitability of the land for a public trails park.

Any adverse comments will be reviewed by the State Director. In the absence of any adverse comments, the classification will become effective on November 25, 2002.

Dated: August 12, 2002.
Shela A. McFarlin,
Field Manager.

[FR Doc. 02-24463 Filed 9-25-02; 8:45 am]

BILLING CODE 4310-32-P